DEPARTMENT OF HEALTH AND HUMAN SERVICES

Health Resources and Services Administration

Meeting of the National Advisory Council on Nurse Education and Practice

AGENCY: Health Resources and Services Administration (HRSA), Department of Health and Human Services (HHS).

ACTION: Notice.

SUMMARY: In accordance with the Federal Advisory Committee Act, this notice announces that the National Advisory Council on Nurse Education and Practice (NACNEP) has scheduled public meetings for the 2020 calendar year (CY). Information about NACNEP, agendas, and materials for these meetings can be found on the NACNEP website at https://www.hrsa.gov/advisory-committees/nursing/index.html.

DATES: NACNEP meetings will be held (all in Eastern Time) on

• February 4, 2020, 8:30 a.m.-5:00 p.m., via webinar;

• May 12, 2020, 8:30 a.m.-5:00 p.m. and May 13, 2020, 8:30 a.m.-2:00 p.m., via in-person and webinar;

• August 11, 2020, 8:30 a.m.-5:00 p.m., via webinar; and

• December 2, 2020, 8:30 a.m.-5:00 p.m. and December 3, 2020, 8:30 a.m.-2:00 p.m., via in-person and webinar.

ADDRESSES: Meetings may be held in-person, by teleconference, and/or Adobe Connect webinar. In-person NACNEP meetings will be held at 5600 Fishers Lane, Rockville, Maryland 20857. Instructions for joining the meetings either in person or remotely will be posted on the NACNEP website listed above 30 business days before the date of the meeting. For meeting information updates, go to the NACNEP website meeting page at https://www.hrsa.gov/advisory-committees/nursing/index.html.

FOR FURTHER INFORMATION CONTACT: Camillus Ezeike, Ph.D., JD, LLM, RN, CHC, CPHRM, Senior Advisor, Division of Nursing and Public Health, Bureau of Health Workforce, HRSA, 5600 Fishers Lane, 11N-120, Rockville, Maryland 20857; 301-443-2866; or BHWNACNEP@hrsa.gov.

SUPPLEMENTARY INFORMATION: NACNEP provides advice and recommendations to the Secretary of HHS and Congress on policy issues related to the activities carried out under Title VIII of the Public Health Service (PHS) Act, including the range of issues relating to the nurse workforce, education, and practice improvement. NACNEP also prepares and submits an annual report to the Secretary of HHS and Congress describing its activities, including NACNEP's findings and recommendations concerning activities under Title VIII, as required by the PHS Act.

Since priorities dictate meeting times, be advised that times and agenda items are subject to change. For CY 2020 meetings, agenda items may include, but are not limited to, updates from experts on nursing workforce, nursing education, and nursing practice improvement in the development, review, and adoption of the Council's 17th Report to the Secretary of HHS and Congress. More general items may include presentations and discussions on the current and emerging needs of the nursing profession and nurse education; public health priorities that nursing can address; healthcare access, evaluation, and financing; and HRSA and other federal health workforce and education programs that impact nurses. Refer to the NACNEP website listed above for all current and updated information concerning the CY 2020 NACNEP meetings, including draft agendas and meeting materials that will be posted at least 14 calendar days before the meeting.

Members of the public will have the opportunity to provide comments. Public participants may submit written statements in advance of the scheduled meeting(s). Oral comments will be honored in the order they are requested and may be limited as time allows. Requests to submit a written statement or make oral comments to NACNEP should be sent to Camillus Ezeike using the contact information above at least 5 business days before the meeting date(s).

Individuals who need special assistance or another reasonable accommodation should notify Camillus Ezeike using the contact information listed above at least 10 business days before the meeting(s) they wish to attend. Since all in-person meetings occur in a federal government building, attendees must go through a security check to enter the building. Non-U.S. citizen attendees must notify HRSA of their planned attendance at least 20 business days prior to the meeting in order to facilitate their entry into the building. All attendees are required to present government-issued identification prior to entry.

Maria G. Button,
Director, Executive Secretariat.

[FR Doc. 2019-23728 Filed 10-30-19; 8:45 am]

BILLING CODE 4165-15-P